DEPARTMENT OF COMMERCE

National Oceanic and Atmospheric Administration

RIN 0648-XB163

Western Pacific Fishery Management Council; Public Meeting

AGENCY: National Marine Fisheries Service (NMFS), National Oceanic and Atmospheric Administration (NOAA), Commerce.

ACTION: Notice of a public meeting.

SUMMARY: The Western Pacific Fishery Management Council (Council) will hold the Eighth Meeting of its Sea Turtle Advisory Committee (STAC) in Honolulu, HI.

DATES: The STAC meeting will be held on Wednesday, May 23, 2012, from 8:30 a.m. to 5:30 p.m. and Thursday, May 24, 2012, from 8:30 a.m. to 12:30 p.m.

ADDRESSES: The meeting will be held at the Council Office Conference Room, 1164 Bishop Street, Suite 1400, Honolulu, HI; telephone: (808) 522-8220.

FOR FURTHER INFORMATION CONTACT: Kitty M. Simonds, Executive Director; telephone: (808) 522-8220.

SUPPLEMENTARY INFORMATION: The STAC will review the Council's 2011 sea turtle conservation projects and other relevant activities and may produce recommendations for future program direction.

Agenda

8:30 a.m., Wednesday, May 23, 2012

1. Introduction.

2. Approval of the Agenda.

3. Review of Recommendations from the Seventh STAC Meeting.

4. Overview of 2011-2012 Council Sea Turtle Program.

5. Review of 2011 Sea Turtle Projects.

6. Update of Sea Turtle Interactions in Hawaii-based Fisheries.

7. Overview of Agency Activities.

8. Other Projects and Issues of Interest.

8:30 a.m., Thursday, May 24, 2012

9. Review of the Past Ten Years and Looking Forward to the Next Ten Years.

10. Public Comment.

11. Recommendations from the STAC.

12. Next Meeting and Meeting Wrap-up.

The order in which agenda items are addressed may change. The Committee will meet as late as necessary to complete scheduled business.

Although non-emergency issues not contained in this agenda may come before this group for discussion, those issues may not be the subject of formal action during these meetings. Action will be restricted to those issues specifically listed in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids should be directed to Kitty M. Simonds, (808) 522-8220 (voice) or (808) 522-8226 (fax), at least 5 days prior to the meeting date.

Authority: 16 U.S.C. 1801 et seq.

Dated: April 17, 2012.
Tracey L. Thompson,
Acting Director, Office of Sustainable Fisheries, National Marine Fisheries Service.

[FR Doc. 2012-9539 Filed 4-19-12; 8:45 am]

BILLING CODE 3510-22-P